DEPARTMENT OF ENERGY

Federal Energy Regulatory Commission

[Docket No. RP05-371-000]

Nautilus Pipeline Company; Notice of Proposed Changes in FERC Gas Tariff

June 10, 2005.

Take notice that on June 7, 2005, Nautilus Pipeline Company (Nautilus) tendered for filing as part of its FERC Gas Tariff, Original Volume No. 1, the following tariff sheets, to become effective June 8, 2005:

Second Revised Sheet No. 23

Third Revised Sheet No. 204

First Revised Sheet No. 204A

First Revised Sheet No. 248

Original Sheet No. 255A

Original Sheet No. 255B

First Revised Sheet No. 259

Original Sheet No. 266A

Original Sheet No. 266B

First Revised Sheet No. 270

Original Sheet No. 278A

Original Sheet No. 278B

First Revised Sheet No. 282

Original Sheet No. 289A

Original Sheet No. 289B

First Revised Sheet No. 292

Original Sheet No. 299

Original Sheet No. 300

Sheet Nos. 301-319

First Revised Sheet No. 340

First Revised Sheet No. 345

Original Sheet No. 345A

Original Sheet No. 345B

Nautilus states that it is filing these tariff sheets to amend its general terms and donditions to provide for specific types of discounts in its tariff, consistent with Commission's policy. Nautilus states that this will give it the flexibility it needs to respond to the marketplace and the needs of its shippers. Nautilus also submits revised tariff sheets to reflect the commission's order in Williston Basin Interstate Pipeline Co., 110 FERC ¶ 61,210 (2005), which allows pipelines to delete current tariff provisions that permits shippers to retain selective discounts at secondary points.

Nautilus states that copies of its filing have been mailed to all affected customers of Nautilus and interested State Commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E5-3122 Filed 6-16-05; 8:45 am]

BILLING CODE 6717-01-P